DEPARTMENT OF COMMERCE

National Oceanic and Atmospheric Administration

50 CFR Part 635

RIN 0648-BA64

Atlantic Highly Migratory Species; Vessel Monitoring Systems

AGENCY: National Marine Fisheries Service (NMFS), National Oceanic and Atmospheric Administration (NOAA), Commerce.

ACTION: Notice of effective date for VMS requirements in Atlantic HMS fisheries.

SUMMARY: As of January 1, 2013, all vessels participating in Atlantic HMS fisheries that are subject to VMS requirements, including vessels with pelagic longline gear on board, vessels with bottom longline gear on board in the vicinity of the mid-Atlantic closed area (between 33° N and 36°30′ N) from January 1 to July 31, and vessels with shark gillnet gear on board fishing between November 15 and April 15, must have an Enhanced Mobile Transmitting Unit (E-MTU) installed by a qualified marine electrician and must provide hail in/hail out declarations specifying target species, gear possessed onboard, and location and timing of landing. These requirements were originally effective March 1, 2011, consistent with a December 2, 2011 final rule. On February 29, 2012, NMFS provided notice that HMS vessels could use either old MTUs or new E-MTUs without providing hail in/hail out declarations specifying target species, gear possessed onboard, and location and timing of landing. However, no new installations of MTUs were permitted, all installations of E-MTUs were required to be done by a qualified marine electrician, and vessels were to provide hourly position reports using VMS units starting two hours prior to leaving port and at all times away from port.

DATES: As of January 1, 2013, all vessels participating in Atlantic HMS fisheries that are subject to VMS requirements, including vessels with pelagic longline gear on board, vessels with bottom longline gear on board in the vicinity of the mid-Atlantic closed area (between 33° N and 36°30′ N) from January 1 to July 31, and vessels with shark gillnet gear on board fishing between November 15 and April 15, must have an E-MTU VMS unit installed by a qualified marine electrician and must provide hail in/hail out declarations specifying target species, gear possessed onboard, and location and timing of landing.

ADDRESSES: Supporting documents associated with the December 2, 2011 final rule, including the Regulatory Impact Review, Final Regulatory Flexibility Analysis (RIR/FRFA), and compliance guides completed in conjunction with the December 2, 2011, final rule are available from Michael Clark, Highly Migratory Species (HMS) Management Division, Office of Sustainable Fisheries (F/SF1), NMFS, 1315 East West Highway, Silver Spring, MD 20910. These documents and others, such as the Fishery Management Plans described below, also may be downloaded from the HMS Web site at www.nmfs.noaa.gov/sfa/hms/. A list of E-MTU VMS units that are currently type-approved for use in Atlantic HMS fisheries is available on the NMFS Office of Law Enforcement Web site at http://www.nmfs.noaa.gov/ole/docs/2012/noaa_fisheries_service_type.pdf. Copies of this list and other information may be obtained by contacting the VMS Support Center at (phone) 888-219-9228, (fax) 301-427-0049, ole.helpdesk@noaa.gov, or write to NOAA Fisheries Office for Law Enforcement (OLE), VMS Support Center, 8484 Georgia Avenue, Suite 415, Silver Spring, MD 20910.

FOR FURTHER INFORMATION CONTACT: For information on this notice and regulations for Atlantic HMS fisheries, contact Michael Clark (phone: 301-427-8503, fax: 301-713-1917). For questions regarding the status of VMS provider evaluations, contact Kelly Spalding, VMS Management Analyst, phone 301-427-2300; fax 301-427-0049. For questions regarding Atlantic HMS fisheries VMS requirements, contact Pat O'Shaughnessy, Southeast Division VMS Program Manager, at phone 727-824-5358; fax 727-824-5318.

SUPPLEMENTARY INFORMATION: On December 2, 2011, NMFS published a final rule (76 FR 75492) and type approval notice (76 FR 75523) updating VMS requirements in Atlantic HMS fisheries. The final rule required that as of March 1, 2012 all HMS vessels subject to VMS requirements have a type-approved E-MTU VMS unit capable of two-way communication and installed by a qualified marine electrician install. Further, the final rule required vessels to declare target species, fishing gear possessed, and location/timing of landing using the E-MTU VMS unit and to provide hourly position reports using VMS units starting two hours prior to leaving port and at all times away from port, effective March 1, 2012.

In late February 2012, we became aware of issues that would affect the ability of fishermen to obtain the required units and to comply with the December 2011 rule. Due to these unforeseen circumstances that would have limited some vessel operators' ability to comply fully with the E-MTU VMS requirements, NMFS notified provided notice on February 29, 2012, that HMS vessels could use either old MTUs or new E-MTUs and were not required to provide hail in/hail out declarations specifying target species, gear possessed onboard, and location and timing of landing. However, no new installation of MTUs were permitted, any installations of E-MTUs were required to be done by a qualified marine electrician, and vessels were required to provide hourly position reports using VMS units starting two hours prior to leaving port and at all times away from port.

The issues that would have prevented some vessels from fully complying with the requirements have now been resolved and NMFS is announcing that MTU VMS units will no longer be allowed after December 31, 2012.

On any fishing trip beginning on or after January 1, 2013, HMS vessels subject to VMS requirements must have an E-MTU that was installed by a qualified marine electrician and must provide hail in/hail out declarations specifying target species, gear possessed onboard, and location and timing of landing, as specified in the December 2011 final rule. This Notice should allow sufficient time for all HMS vessel owners who have not already replaced their MTU with an E-MTU to do so prior to January 1, 2013.

Authority: 16 U.S.C. 971 et seq.; 16 U.S.C. 1801 et seq.

Dated: October 5, 2012.
Emily H. Menashes,
Deputy Director, Office of Sustainable Fisheries, National Marine Fisheries Service.

[FR Doc. 2012-25009 Filed 10-10-12; 8:45 am]

BILLING CODE 3510-22-P